FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011642-006.

Title: East Coast United States/East Coast South America Vessel Sharing Agreement.

Parties: A.P. Moller-Maersk Sealand, Alianca Navegacao e Logistica Ltda, Companhia Libra de Navegacao, Compania Sud-Americana de Vapores, S.A., Hamburg-Südamerikanische Dampfschifffahrtsgesellschaft KG, Oceanica AGW Com. e Rep. Ltda, P&O Nedlloyd B.V., P&O Nedlloyd Limited, Safmarine Container Lines NV.

Synopsis: The amendment provides for an additional vessel string and revises the space allocations under the agreement. The parties requested expedited review

.

Agreement No.: 011814-001.

Title: CAT/King Ocean Space Charter Agreement.

Parties: King Ocean Services Limited, King Ocean Service de Venezuela, S.A., Hamburg-Südamerikanische Dampfschifffahrtsgesellschaft KG d/b/a Crowley American Transport.

Synopsis: The amendment adds the Dominican Republic to the geographic scope of the agreement and allows Hamburg-Süd to sub-charter space to Maersk Sealand under a separate agreement.

Agreement No.: 011841-001.

Title: Lykes/Libra Slot Charter Agreement.

Parties: Companhia Libra de Navegacao, Lykes Lines Limited, LLC.

Synopsis: The subject agreement modification deletes from Article 5.1(a)(ii) the restrictions on the use of space by Libra to move cargo to/from ports in the Dominican Republic and Venezuela. Consequently, these countries are being added to the geographic scope. The modification also clarifies that the agreement is intended to cover the trade between the U.S. and Mexico. The parties request expedited review.

Agreement No.: 011849.

Title: CAT/Maersk Sealand Space Charter Agreement.

Parties: Hamburg-Süd d/b/a Crowley American Transport, A.P. Moller Maersk Sealand.

Synopsis: The agreement authorizes Hamburg-Süd to charter space to Maersk Sealand in the trade between Atlantic Coast ports of Florida and ports in Aruba, Bonaire, Curacao, the Dominican Republic, Colombia, and Venezuela.

Agreement No.: 201101-003.

Title: Tampa/Tampa Bay Wharfage Incentive Terminal Agreement.

Parties: Tampa Port Authority, Tampa Bay International Terminals.

Synopsis: This amendment revises the wharfage incentives provided under the agreement.

By Order of the Federal Maritime Commission.
Dated: April 10, 2003.
Bryant L. VanBrakle,
Secretary.

[FR Doc. 03-9214 Filed 4-14-03; 8:45 am]

BILLING CODE 6730-01-P